FEDERAL MARITIME COMMISSION

Ocean Transportation Intermediary Licenses; Correction

In the OTI Applicant Notice published in the Federal Register on July 26, 2006 (71 FR 42403) reference to the name of the Qualifying Individual Mark Hezrom, President is corrected to read:

“Arik Hezrom, President”

Dated: August 11, 2006.
Bryant L. VanBrakle,
Secretary.

[FR Doc. E6-13460 Filed 8-15-06; 8:45 am]

BILLING CODE 6730-01-P